DEPARTMENT OF COMMERCE

International Trade Administration

[A-489-808]

Notice of Final Determinations of Sales at Less Than Fair Value; Certain Cold-Rolled Flat-Rolled Carbon-Quality Steel Products from Turkey

AGENCY: Import Administration, International Trade Administration, Department of Commerce.

EFFECTIVE DATE: March 21, 2000.

ACTION: Notice of final determination of sales at less than fair value.

FOR FURTHER INFORMATION CONTACT: Charles Ranado, Stephanie Arthur or Robert James at (202) 482-3518, (202) 482-6312 or (202) 482-0649, respectively; Antidumping and Countervailing Duty Enforcement Group III, Import Administration, International Trade Administration, U.S. Department of Commerce, 14th Street and Constitution Avenue, N.W., Washington, DC 20230.

The Applicable Statute and Regulations

Unless otherwise indicated, all citations to the statute are references to the provisions effective January 1, 1995, the effective date of the amendments made to the Tariff Act of 1930 (the Act) by the Uruguay Round Agreements Act (URAA). In addition, unless otherwise indicated, all citations to Department of Commerce (Department) regulations refer to the regulations codified at 19 CFR part 351 (April 1, 1999).

Final Determinations

We determine that cold-rolled flat-rolled carbon-quality steel products (cold-rolled steel) from Turkey are being sold, or are likely to be sold, in the United States at less than fair value (LTFV), as provided in section 735 of the Act. The estimated margins of sales at LTFV are shown in the “Suspension of Liquidation” section of this notice.

Case History

We published in the Federal Register the preliminary determination in this investigation on January 7, 2000. See Notice of Preliminary Determination of Sales at Less Than Fair Value: Cold-Rolled Flat-Rolled Carbon-Quality Steel Products from Turkey, 65 FR 1127 (January 7, 2000) (Preliminary Determination). Since the publication of the Preliminary Determination the following events have occurred.

The Department verified sections A-C of Borcelik Celik Sanayii ve Ticaret A.S. (Borcelik's) responses from December 6 through December 9, 1999, at Borcelik's administrative headquarters in Istanbul, Turkey. The Department also verified section D of Borcelik's response from December 13 through December 17, 1999, at Borcelik's administrative headquarters. See Memorandum For the File; “Verification of Sales Data—Borcelik”, January 19, 2000 (Sales Verification Report) and Memorandum to Neal Halper, Acting Director, Office of Accounting; “Verification of the Cost of Production and Constructed Value Data—Borcelik,” January 19, 2000 (Cost Verification Report). Public versions of these, and all other Departmental memoranda referred to herein, are on file in the Central Records Unit, room B-099 of the main Commerce building.

On January 24, 2000, Eregli Demir ve Çelik Fabrikalari T.A.S. (Erdemir) requested a public hearing. In addition, on February 7, 2000, petitioners ¹ also requested a hearing. On February 11, 2000, both respondents (Borcelik and Erdemir) filed case briefs while petitioners filed case briefs on issues concerning Borcelik. We received rebuttal briefs from all parties on February 18, 2000. The Department held a hearing on February 22, 2000.

¹ Petitioners in this case are Bethlehem Steel Corporation, Gulf States Steel, Inc., Ispat Inland Inc., LTV Steel Company Inc., National Steel Company, Steel Dynamics, Inc., U.S. Steel Group, a unit of USX Corporation, Weirton Steel Corporation, United Steelworkers of America, and Independent Steelworkers Union (collectively, petitioners).

Period of Investigation

The period of investigation (POI) is April 1, 1998 through March 31, 1999.

Analysis of Comments Received

All issues raised in the case and rebuttal briefs by parties to this administrative review are addressed in the “Issues and Decision Memorandum” (Decision Memorandum) from Joseph A. Spetrini, Deputy Assistant Secretary, Import Administration, to Robert S. LaRussa, Assistant Secretary for Import Administration, dated March 13, 2000, which is hereby adopted and incorporated by reference into this notice. A list of the issues which parties have raised and to which we have responded, all of which are in the Decision Memorandum, is attached to this notice as an Appendix. Parties can find a complete discussion of all issues raised in this review and the corresponding recommendations in this public memorandum which is on file in B-099.

In addition, a complete version of the Decision Memorandum can be accessed directly on the World Wide Web at www.ita.doc.gov/import_admin/records/frn. The paper copy and electronic version of the Decision Memorandum are identical in content.

Scope of Investigation

For a description of the scope of this investigation, see the “Scope of Investigation” section of the Decision Memorandum, which is on file in B-099 and available on the Web at www.ita.doc.gov/import_admin/records/frn/.

Use of Facts Available

For a discussion of our application of facts available, see the “Facts Available” section of the Decision Memorandum, which is on file in B-099 and available on the Web at www.ita.doc.gov/import_admin/records/frn/.

Changes Since the Preliminary Determination

Based on our analysis of comments received and findings at verification, we have made certain changes in the margin calculations. We have also corrected certain programming and clerical errors in our preliminary results, where applicable. Any allegations of programming or clerical errors with which we do not agree are discussed in the relevant sections of the “Decision Memorandum,” accessible in B-099 and on the Web at www.ita.doc.gov/import_admin/records/frn/.

Suspension of Liquidation

Pursuant to section 735(c)(1)(B) of the Act, we are instructing Customs to continue to suspend liquidation of all entries of cold-rolled flat-rolled, carbon-quality steel products from Turkey that are entered, or withdrawn from warehouse, for consumption on or after January 7, 2000, the date of publication of the Preliminary Determination. The Customs Service shall continue to require a cash deposit or the posting of a bond based on the estimated weighted-average dumping margins shown below. The suspension of liquidation instructions will remain in effect until further notice.

We determine that the following weighted-average dumping margins exist for the period April 1, 1998 through March 31, 1999:

Exporter/manufacturer | Weighted-average margin (percent)
Erdemir | 32.91
Borcelik | 8.67
All Others | 8.67

ITC Notification

In accordance with section 735(d) of the Act, we have notified the International Trade Commission (ITC) of our determination. As our final determination is affirmative, the ITC will determine, within 45 days, whether these imports are causing material injury, or threat of material injury, to an industry in the United States. If the ITC determines that material injury or threat of injury does not exist, the proceeding will be terminated and all securities posted will be refunded or canceled. If the ITC determines that such injury does exist, the Department will issue in antidumping order directing Customs officials to assess antidumping duties on all imports of the subject merchandise entered, or withdrawn from warehouse for consumption on or after the effective date of the suspension of liquidation.

This determination is issued and published in accordance with sections 735(d) and 777(i)(1) of the Act.

Dated: March 13, 2000.
Robert S. LaRussa,
Assistant Secretary for Import Administration.

Appendix I—Issues in Decision Memo

Comments and Responses

1. Facts Available

1. Adverse Facts Available

2. Major Input Rule

2. Date of Sale

3. COP/CV

1. Exchange Rate Gains and Losses

2. Translation Gains and Losses

3. Major Input—Trace to Individual Coils

4. Missing Coils

5. Auditor's Adjustments

6. Sales of Scrap

4. Adjustments to Export Price

1. Movement Expenses

2. Duty Drawback

5. Adjustments to Normal Value

1. Returns

2. Interest Revenue

3. Technical Services

6. Model Match

7. Ministerial Errors

[FR Doc. 00-6992 Filed 3-20-00; 8:45 am]

BILLING CODE 3510-DS-P